DEPARTMENT OF DEFENSE

GENERAL SERVICES ADMINISTRATION

NATIONAL AERONAUTICS AND SPACE ADMINISTRATION

48 CFR Part 1

[FAC 2005-88; Item V; Docket No. 2016-0052; Sequence No. 2]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective: May 16, 2016.

FOR FURTHER INFORMATION CONTACT: Ms. Hada Flowers, Regulatory Secretariat Division (MVCB), 1800 F Street NW., 2nd Floor, Washington, DC 20405, 202-501-4755. Please cite FAC 2005-88, Technical Amendments.

SUPPLEMENTARY INFORMATION: In order to update certain elements in 48 CFR part 1 this document makes editorial changes to the FAR.

List of Subject in 48 CFR Part 1

Government procurement.

Dated: May 5, 2016.
William Clark,
Director, Office of Government-wide Acquisition Policy, Office of Acquisition Policy, Office of Government-wide Policy.

Therefore, DoD, GSA, and NASA amend 48 CFR part 1 as set forth below:

PART 1—FEDERAL ACQUISITION REGULATIONS SYSTEM

1. The authority citation for 48 CFR part 1 continues to read as follow:

Authority: 40 U.S.C. 121(c); 10 U.S.C. chapter 137; and 51 U.S.C. 20113.

1.106 [Amended]

2. Amend section 1.106 in the table following the introductory text, by—

a. Removing FAR segment “3.4” and its corresponding OMB Control No. “9000-0003”;

b. Removing from FAR segment 3.11, the OMB Control No. “9000-0181” and adding “9000-0183” in its place;

c. Removing from FAR segment 9.2, the OMB Control No. “9000-0020” and adding “9000-0083” in its place;

d. Removing FAR segment “14.214” and its corresponding OMB Control No. “9000-0105”;

e. Adding in numerical sequence, FAR segment “22.5” and its corresponding OMB Control No. “9000-0175”;

f. Removing from FAR segment 22.16, the OMB Control No. “1215-0209” and adding “1245-0004” in its place;

g. Removing FAR segment “32” and its corresponding OMB Control No. “9000-0035”;

h. Adding in numerical sequence, FAR segment “42.15” and its corresponding OMB Control No. “9000-0142”;

i. Adding in numerical sequence, FAR segments “44.305” and “52.244-2(i)” and their corresponding OMB Control No. “9000-0132”;

j. Removing from FAR segment 52.203-16, the OMB Control No. “9000-0181” and adding “9000-0183” in its place;

k. Adding in numerical sequence, FAR segments “52.207-4”, “52.209-1”, “52.209-2”, “52.209-5”, “52.209-6”, “52.211-7”, “52.212-3(h)”, and “52.212-5”, and their corresponding OMB Control Nos., “9000-0082”, “9000-0083”, “9000-0190”, “9000-0094”, “9000-0094”, “9000-0153”, “9000-0094”, and “9000-0034”, respectively;

l. Removing from FAR segment 52.222-4, the OMB Control No. “1215-0119” and adding “1235-0023” in its place;

m. Removing from FAR segment 52.222-6, the OMB Control No. “1215-0140” and adding “1235-0023” in its place;

n. Removing FAR segment “55.222-17” and its corresponding OMB Control Nos. “1235-0007 and 1235-0025”;

o. Adding in numerical sequence, FAR segment “52.222-17” and its corresponding OMB Control Nos. “1235-0007 and 1235-0025”;

p. Removing from FAR segment 52.222-18, the OMB Control No. “9000-0127” and adding “9000-0155” in its place;

q. Removing from FAR segment 52.222-40, the OMB Control No. “1215-0209” and adding “1245-0004” in its place;

r. Adding in numerical sequence, FAR segments “52.222-54” and “52.223-7”, and their corresponding OMB Control Nos. “1615-0092” and “9000-0107”, respectively;

s. Removing from FAR segment 52.225-4, the OMB Control No. “9000-0130” and adding “9000-0024” in its place;

t. Removing from FAR segment 52.225-6, the OMB Control No. “9000-0025” and adding “9000-0024” in its place;

u. Removing from FAR segment 52.225-9, the OMB Control No. “9000-0141” and adding “9000-0024” in its place;

v. Adding in numerical sequence, FAR segment “52.225-10” and its corresponding OMB Control No. “9000-0024”;

w. Removing from FAR segment 52.225-11, the OMB Control No. “9000-0141” and adding “9000-0024” in its place;

x. Adding in numerical sequence, FAR segment “52.225-12” and its corresponding OMB Control No. “9000-0024”;

y. Removing from FAR segment 52.225-21, the OMB Control No. “9000-0141” and adding “9000-0024” in its place;

z. Removing from FAR segment 52.225-23, the OMB Control No. “9000-0141” and adding “9000-0024” in its place;

aa. Adding in numerical sequence, FAR segment “52.225-26” and its corresponding OMB Control No. “9000-0184”;

bb. Adding in numerical sequence, FAR segments “52.227-11” and “52.227-13”, and their corresponding OMB Control No. “9000-0095”;

cc. Removing from FAR segment 52.232-5, the OMB Control No. “9000-0070” and adding “9000-0102” in its place;

dd. Adding in numerical sequence, FAR segments “52.232-33” and “52.232-34” and their corresponding OMB Control No. “9000-0144”;

ee. Removing FAR segment “52.233-7” and its corresponding OMB Control No. “9000-0117”;

ff. Removing from FAR segment 52.236-13, the OMB Control No. “1220-0029 and”;

gg. Adding in numerical sequence, FAR segments “52.237-10” and “52.242-13” and their corresponding OMB Control Nos. “9000-0152” and “9000-0108”, respectively;

hh. Removing FAR segment “52.246-10” and its corresponding OMB Control No. “9000-0077”;

ii. Adding in numerical sequence, FAR segments “52.247-6” and “52.247-52” and their corresponding OMB Control No. “9000-0061”;

jj. Removing FAR segment “52.249-11” and its corresponding OMB Control No. “9000-0028”;

kk. Adding in numerical sequence, FAR segment “52.251-2” and its corresponding OMB Control No. “9000-0032”; and

ll. Adding in numerical sequence, FAR segments “SF 294” and “SF 295” and their corresponding OMB Control Nos. “9000-0006” and “9000-0007”, respectively.

[FR Doc. 2016-11004 Filed 5-13-16; 8:45 am]

BILLING CODE 6820-EP-P